DEPARTMENT OF DEFENSE

Office of the Secretary

[Docket ID: DOD-2009-OS-0118]

Privacy Act of 1974; System of Records

AGENCY: Defense Logistics Agency, DoD.

ACTION: Notice to Amend a System of Records.

SUMMARY: The Defense Logistics Agency is amending a system of records notice in its existing inventory of record systems subject to the Privacy Act of 1974, (5 U.S.C. 552a), as amended.

DATES: This proposed action will be effective without further notice on September 8, 2009 unless comments are received which result in a contrary determination.

ADDRESSES: Send comments to the Privacy Act Officer, Headquarters, Defense Logistics Agency, ATTN: DP, 8725 John J. Kingman Road, Stop 2533, Fort Belvoir, VA 22060-6221.

FOR FURTHER INFORMATION CONTACT: Mr. Lewis Oleinick at (703) 767-6194.

SUPPLEMENTARY INFORMATION: The Defense Logistics Agency systems of records notices subject to the Privacy Act of 1974, (5 U.S.C. 552a), as amended, have been published in the Federal Register and are available from the address above.

The specific changes to the record system being amended are set forth below followed by the notice, as amended, published in its entirety. The proposed amendments are not within the purview of subsection (r) of the Privacy Act of 1974, (5 U.S.C. 552a), as amended, which requires the submission of a new or altered system report.

Dated: July 23, 2009.
Patricia L. Toppings,
OSD Federal Register Liaison Officer, Department of Defense.

S300.10

SYSTEM NAME:

Voluntary Leave Transfer Program Records (June 12, 2006, 71 FR 33728).

CHANGES:

* * * * *

SYSTEM LOCATION:

Delete entry and replace with “Human Resources Policy and Information, Headquarters, Defense Logistics Agency, 8725 John J. Kingman Road, Stop 6231, Fort Belvoir, VA 22060-6221, and the Human Resources Offices of the Defense Logistics Agency (DLA) Primary Level field activities. Official mailing addresses are published as an appendix to DLA's compilation of systems of records notices.”

* * * * *

STORAGE:

Delete entry and replace with “Records may be stored on paper and/or on electronic storage media.”

* * * * *

SYSTEM MANAGER(S) AND ADDRESS:

Delete entry and replace with “Staff Director, Human Resources Policy and Information, Defense Logistics Agency, ATTN: J-1, 8725 John J. Kingman Road, Stop 6231, Fort Belvoir, VA 22060-6221, and the Human Resources Officers of the DLA Primary Level field activities. Official mailing addresses are published as an appendix to DLA's compilation of systems of records notices.”

NOTIFICATION PROCEDURE:

Delete entry and replace with “Individuals seeking to determine whether information about themselves is contained in this system should address written inquiries to the Privacy Act Office, Headquarters, Defense Logistics Agency, ATTN: DGA, 8725 John J. Kingman Road, Suite 1644, Fort Belvoir, VA 22060-6221 or to the Human Resources Office of the DLA Primary Level field activity involved. Official mailing addresses are published as an appendix to DLA's compilation of systems of records notices.

Individual should provide full name and Social Security Number (SSN).”

RECORD ACCESS PROCEDURES:

Delete entry and replace with “Individuals seeking access to information about themselves contained in this system should address written inquiries to the Privacy Act Office, Headquarters, Defense Logistics Agency, ATTN: DGA, 8725 John J. Kingman Road, Suite 1644, Fort Belvoir, VA 22060-6221 or to the Human Resources Office of the DLA Primary Level field activity involved. Official mailing addresses are published as an appendix to DLA's compilation of systems of records notices.

Individual should provide full name and Social Security Number (SSN).”

CONTESTING RECORD PROCEDURES:

Delete entry and replace with “The DLA rules for accessing records, for contesting contents, and appealing initial agency determinations are contained in 32 CFR part 323, or may be obtained from the Privacy Act Office, Headquarters, Defense Logistics Agency, ATTN: DGA, 8725 John J. Kingman Road, Suite 1644, Fort Belvoir, VA 22060-6221.”

* * * * *

S300.10

SYSTEM NAME:

Voluntary Leave Transfer Program Records.

SYSTEM LOCATION:

Human Resources Policy and Information, Headquarters, Defense Logistics Agency, 8725 John J. Kingman Road, Stop 6231, Fort Belvoir, VA 22060-6221, and the Human Resources Offices of the Defense Logistics Agency (DLA) Primary Level field activities. Official mailing addresses are published as an appendix to DLA's compilation of systems of records notices.

CATEGORIES OF INDIVIDUALS COVERED BY THE SYSTEM:

Individuals who have volunteered to participate in the leave transfer program as either a donor or a recipient.

CATEGORIES OF RECORDS IN THE SYSTEM:

Leave recipient records contain the individual's name, organization, office telephone number, Social Security Number, position title, grade, pay level, leave balances, brief description of the medical or personal hardship which qualifies the individual for inclusion in the program, the status of that hardship, and a statement that selected data elements may be used in soliciting donations.

The file may also contain medical or physician certifications and agency approvals or denials.

Donor records include the individual's name, organization, office telephone number, Social Security Number (SSN), position title, grade, and pay level, leave balances, number of hours donated and the name of the designated recipient.

AUTHORITY FOR MAINTENANCE OF THE SYSTEM:

5 U.S.C. 301, Departmental Regulations; 5 U.S.C. Chapter 63, sections 6331-6339, Leave; Public Law 103-103, Federal Employees Leave Sharing Act of 1993; 5 CFR Part 630, Absence and Leave, Subpart I, Voluntary Leave Transfer Program; and E.O. 9397 (SSN), as amended.

PURPOSE(S):

Records are used to manage the DLA Voluntary Leave Transfer Program. The recipient's name, position data, organization, and a brief hardship description are published internally for passive solicitation purposes. The Social Security Number (SSN) is sought to effectuate the transfer of leave from the donor's account to the recipient's account.

ROUTINE USES OF RECORDS MAINTAINED IN THE SYSTEM, INCLUDING CATEGORIES OF USERS AND THE PURPOSES OF SUCH USES:

In addition to those disclosures generally permitted under 5 U.S.C. 552a(b) of the Privacy Act of 1974, these records may specifically be disclosed outside the DoD as a routine use pursuant to 5 U.S.C. 552a(b)(3) as follows:

To the Department of Labor in connection with a claim filed by an employee for compensation due to a job-connected injury or illness; where leave donor and leave recipient are employed by different Federal agencies, to the personnel and pay offices of the Federal agency involved to effectuate the leave transfer.

The DoD “Blanket Routine Uses” apply to this system of records.

POLICIES AND PRACTICES FOR STORING, RETRIEVING, ACCESSING, RETAINING, AND DISPOSING OF RECORDS IN THE SYSTEM:

STORAGE:

Records may be stored on paper and/or on electronic storage media.

RETRIEVABILITY:

Records are retrieved by name or Social Security Number (SSN).

SAFEGUARDS:

Records are maintained in areas accessible only to DLA personnel who must use the records to perform their duties. The computer files are password protected with access restricted to authorized users. Records are secured in locked or guarded buildings, locked offices, or locked cabinets during non-duty hours.

RETENTION AND DISPOSAL:

Records are destroyed one year after the end of the year in which the file is closed.

SYSTEM MANAGER(S) AND ADDRESS:

Staff Director, Human Resources Policy and Information, Defense Logistics Agency, ATTN: J-1, 8725 John J. Kingman Road, Stop 6231, Fort Belvoir, VA 22060-6221, and the Human Resources Officers of the DLA Primary Level field activities. Official mailing addresses are published as an appendix to DLA's compilation of systems of records notices.

NOTIFICATION PROCEDURE:

Individuals seeking to determine whether information about themselves is contained in this system should address written inquiries to the Privacy Act Office, Headquarters, Defense Logistics Agency, ATTN: DGA, 8725 John J. Kingman Road, Suite 1644, Fort Belvoir, VA 22060-6221 or to the Human Resources Office of the DLA Primary Level field activity involved. Official mailing addresses are published as an appendix to DLA's compilation of systems of records notices.

Individual should provide full name and Social Security Number (SSN).

RECORD ACCESS PROCEDURES:

Individuals seeking access to information about themselves contained in this system should address written inquiries to the Privacy Act Office, Headquarters, Defense Logistics Agency, ATTN: DGA, 8725 John J. Kingman Road, Suite 1644, Fort Belvoir, VA 22060-6221 or to the Human Resources Office of the DLA Primary Level field activity involved. Official mailing addresses are published as an appendix to DLA's compilation of systems of records notices.

Individual should provide full name and Social Security Number (SSN).

CONTESTING RECORD PROCEDURES:

The DLA rules for accessing records, for contesting contents, and appealing initial agency determinations are contained in 32 CFR part 323, or may be obtained from the Privacy Act Office, Headquarters, Defense Logistics Agency, ATTN: DGA, 8725 John J. Kingman Road, Suite 1644, Fort Belvoir, VA 22060-6221.

RECORD SOURCE CATEGORIES:

Record subject; personnel and leave records; and medical certification and similar data.

EXEMPTIONS CLAIMED FOR THE SYSTEM:

None.

[FR Doc. E9-18907 Filed 8-6-09; 8:45 am]

BILLING CODE 5001-06-P